DEPARTMENT OF ENERGY

Federal Energy Regulatory Commission

[Docket No. AD20-11-000]

Extension of Non-Statutory Deadlines; Supplemental Notice Waiving Regulations

On May 8, 2020, in response to emergency conditions caused by Novel Coronavirus Disease (COVID-19), the Secretary first waived the Commission's regulations that require that filings with the Commission be notarized or supported by sworn declarations.¹ On July 26, 2021, the Secretary extended this waiver through January 1, 2022.²

¹ See, e.g., 18 CFR 45.7 (2020) (requiring application for authority to hold interlocking positions to be verified under oath).

² Supplemental Notice Waiving Regulations, Extension of Non-Statutory Deadlines, Docket No. AD20-11-000 (July 26, 2021) (July 2021 Notice).

Although the National Emergency continues,³ many companies and individuals have continued to return to their workplaces since issuance of the July 2021 Notice, and we anticipate more will do so in the coming months. At this time, there is thus good cause to extend through and including March 31, 2022, waiver of the Commission's regulations that require that filings with the Commission be notarized or supported by sworn declarations as provided in the July 2021 Notice. However, given the above factors, the Commission does not anticipate issuing any further blanket extensions discussed herein after March 31, 2022, but is closely monitoring developments and will make that decision in light of conditions near the end of this extension.⁴ The Secretary provides this notice so that entities may plan accordingly.

³ A Letter on the Continuation of the National Emergency Concerning the Coronavirus Disease 2019 (COVID-19) Pandemic (Feb. 24, 2021), https://www.whitehouse.gov/briefing-room/statements-releases/2021/02/24/a-letter-on-the-continuation-of-the-national-emergency-concerning-the-coronavirus-disease-2019-covid-19-pandemic/.

⁴ The Commission concurrently is issuing an order in Docket No. EL20-37-000 granting blanket waiver of requirements to hold meetings in person and/or to provide or obtain notarized documents in open access transmission tariffs and other Commission-jurisdictional agreements through and including March 31, 2022. Temporary Action to Facilitate Social Distancing, 177 FERC ¶ 61,174 (2021).

The Commission recognizes that there could be certain circumstances that may warrant entity-specific waivers of these obligations after March 31, 2022. This notice reminds entities that if they believe that specific circumstances warrant continued relief from the requirements addressed herein after March 31, 2022, they may request a case-specific waiver. Such requests will be addressed at that time.

Dated: December 8, 2021.
Debbie-Anne A. Reese,
Deputy Secretary.

[FR Doc. 2021-27066 Filed 12-14-21; 8:45 am]

BILLING CODE 6717-01-P